DEPARTMENT OF COMMERCE

National Oceanic and Atmospheric Administration

50 CFR Part 300

[Docket No. 130717632-4070-01]

RIN 0648-BD52

International Fisheries; Pacific Tuna Fisheries; Fishing Restrictions in the Eastern Pacific Ocean

Correction

In proposed rule document 2014-02333 appearing on pages 6876-6880 in the issue of February 5, 2014, make the following correction:

On page 6876, in the second column, in the first and second lines above the FOR FURTHER INFORMATION CONTACT heading, “RegionalAdministrato.WCRHMS@noaa.gov” should read “RegionalAdministrator.WCRHMS@noaa.gov”.

[FR Doc. C1-2014-02333 Filed 2-10-14; 8:45 am]

BILLING CODE 1505-01-D